DEPARTMENT OF ENERGY

Agency Information Collection Extension

AGENCY: U.S. Department of Energy.

ACTION: Submission for Office of Management and Budget (OMB) review: Comment request.

SUMMARY: The Department of Energy (DOE) has submitted an information collection request to the OMB for extension under the provisions of the Paperwork Reduction Act of 1995. The information collection requests a three-year extension of the Applications for Loans Under the Advanced Technology Vehicles Manufacturing Incentive Program, OMB Control Number 1910-5137.

DATES: Comments regarding this collection must be received on or before April 4, 2022. If you anticipate that you will be submitting comments, but find it difficult to do so within the period of time allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to Knight Elsberry, LPO.PaperworkReductionAct.Comments@hq.doe.gov, (202) 287-6646. The information collection instrument (10 CFR part 611) can be viewed at www.ecfr.gov/current/title-10/chapter-II/subchapter-H/part-611#sp10.4.611.a in conjunction with the guidance at www.energy.gov/sites/default/files/2019/05/f62/Guidance_for_Potential_ATVM_Applicants_May2019.pdf.

SUPPLEMENTARY INFORMATION: This information collection request contains: (1) OMB No.: 1910-5137; (2) Information Collection Request Title: Applications for Loans under the Advanced Technology Vehicles Manufacturing Incentive Program; (3) Type of Request: Extension; (4) Purpose: This information collection package covers collection of information necessary to evaluate applications for loans submitted under Section 136 of the Energy Independence and Security Act of 2007, as amended (“EISA”) (42 U.S.C. 17013). Applications for loans submitted to DOE under Section 136 of EISA must contain certain information. This information will be used to analyze whether a project is eligible for a loan and to evaluate the application under criteria specified in the interim final regulations implementing Section 136 of EISA, located at 10 CFR part 611. The collection of this information is critical to ensure that the government has sufficient information to determine whether applicants meet the eligibility requirements to qualify for a DOE loan and to provide DOE with sufficient information to evaluate an applicant's project using the criteria specified in 10 CFR part 611; (5) Annual Estimated Number of Respondents: 40; (6) Annual Estimated Number of Total Responses: 40; (7) Annual Estimated Number of Burden Hours: 5,300; (8) Annual Estimated Reporting and Recordkeeping Cost Burden: $1,083,000.

Statutory Authority: Section 136 of the EISA authorizes the collection of information.

Signing Authority

This document of the Department of Energy was signed on February 28, 2022, by Jigar Shah, Executive Director, Loan Programs Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 1, 2022.
Treena V. Garrett,
Federal Register Liaison Officer, U.S. Department of Energy.

[FR Doc. 2022-04595 Filed 3-3-22; 8:45 am]

BILLING CODE 6450-01-P